DEPARTMENT OF HOUSING AND URBAN DEVELOPMENT

[Docket No. FR-4491-N-08]

Final Environmental Impact Statement: City of Hartford, CT; Section 108 Loan Guarantee/BEDI Grant

AGENCY: Office of the Assistant Secretary for Community Planning and Development, HUD.

ACTION: Notice.

SUMMARY: The Department of Housing and Urban Development (HUD) gives this notice to the public that the City of Hartford, CT has completed and makes available to the public for comment the Final Environmental Impact Statement (FEIS) that analyzes the potential impacts of developing approximately 37 acres of land and associated air rights in a publicly and privately funded mixed-use 24 hour a day development site located in its downtown land near the Connecticut River. The proposed construction of a multi-use redevelopment project would include a convention center, hotel, parking facilities, and an entertainment/retail/residential complex located in the vicinity of Columbus Boulevard and the Whitehead Highway, known as Adriaen's Landing (the Project). The Project cost is approximately $ 664 million. The City of Hartford proposes to use HUD Brownfields Economic Development Initiative (BEDI) Grant funds ($2 million) and Section 108 Loan Guarantees ($13 million) in support of certain parts of the Project.

This notice is in accordance with the regulations of the Council on Environmental Quality as described in 40 CFR parts 1500-1508 for implementing the procedural provisions of the National Environmental Policy Act. Interested individuals, agencies, and Federal agencies having jurisdiction by law, special expertise, or other special interest are requested to comment.

DATES: Comment Due Date: October 28, 2002.

FOR FURTHER INFORMATION CONTACT: All interested agencies, groups and persons are invited to submit comments on the FEIS directly to Ms. Beatriz Roman, Environmental Review Officer, Office of Grants Management, City of Hartford, 550 Main Street, Hartford, CT 06103; phone number: (860) 522-4888 x6127, Fax: (860) 722-6061, e-mail:broman@ci.hartford.ct.us.

The FEIS will be available for public review and comment at the following locations during regular business hours: (1) Department of Environmental Protection, 79 Elm Street, Hartford, CT, telephone (860) 424-4180; (2) The Adriaen's Landing Project Office located at 50 Columbus Boulevard, 4th Floor, Hartford, CT; (3) The Hartford Town Clerk's Offices, 550 Main Street, Hartford, CT; (4) Hartford Public Library branches; (5) The Connecticut State Library, 231 Capitol Avenue, Hartford, CT; (6) Capitol Region Council of Governments, 241 Main Street, Hartford, CT; and (7) HUD State of Connecticut Office, 1 Corporate Center, 19th floor, Hartford, CT.

Notice is also given that the City of Hartford and the Capital City Economic Development Authority (CCEDA) will hold a public hearing on the FEIS on Tuesday, October 1, 2002 at 6:30 p.m. in the auditorium of the Betances School, 42 Charter Oak Avenue, Hartford. If necessary the hearing may be rescheduled to or continued on Wednesday, October 2, 2002 at 6:30 p.m. in the auditorium of the Betances School, 42 Charter Oak Avenue, Hartford. The public may comment on the FEIS at the hearing; in addition, written comments may be submitted at the public hearing or before the hearing to Brendan Fox, CCEDA, 50 Columbus Boulevard, 4th floor, Hartford, CT 06106.

SUPPLEMENTARY INFORMATION: The City of Hartford has received a HUD Brownfields Economic Development Initiative (BEDI) grant and Section 108 loan funds to be used for the Project. These grant and loan funds will be used for eligible activities listed within HUD regulations appropriate to the BEDI or Section 108 funding source, specifically for the proposed Hotel and Retail/Entertainment Components of the Project. The Connecticut Legislature enacted Public Acts 98-179, 99-241, and 00-140 to provide funding for projects in downtown Hartford, including the Project. The Capital City Economic Development Authority (CCEDA) was formed to oversee the development of these projects. The Project is seen as a catalyst for attracting residents and businesses to downtown Hartford and ultimately stimulating the revitalization and growth of Hartford and the region.

Public Act 00-140 requires the Capital City Economic Development Authority (CCEDA) to prepare an Environmental Impact Evaluation (EIE) pursuant to the Connecticut Environmental Policy Act (CEPA) for the Project. The Act also authorizes CCEDA to assist the City of Hartford in preparing and processing an Environmental Impact Statement (EIS) on behalf of any Federal agency under the National Environmental Policy Act (NEPA) for any activities subject to NEPA.

Additionally, the Project will require the acquisition of air rights from the Connecticut Department of Transportation, with concurrence by the Federal Highway Administration. The Federal Highway Administration has accepted Cooperating Agency status in the preparation of the NEPA EIS so that the analysis satisfies its requirements for the issuance of air rights.

While the substantive requirements of the evaluations are similar, CEPA anticipates, but does not require, separate evaluations in the event that an EIS is performed pursuant to federal law. Similarly, NEPA anticipates, but does not require, separate evaluations be performed for state or local environmental evaluation requirements. It provides that any environmental document in compliance with NEPA may be combined with other agency documents to reduce duplication and paperwork.

Consistent with both CEPA and NEPA, CCEDA and the City of Hartford have worked to increase efficiency and reduce duplication of effort and paperwork by cooperating to fulfill their respective EIE and EIS responsibilities through release of a single draft document. In fulfillment of its statutory requirements under CEPA, CCEDA has worked to prepare a draft EIE/EIS for the Project, while concurrently assisting the City in ensuring that the combined EIE/EIS document fulfills NEPA requirements. While the NEPA and CEPA processes were running concurrently to an extent, the state EIE process has been completed prior to the federal EIS process, based in part on the separate timeframes imposed by the respective statutes.

Independently justified activities covered by the state EIE which do not limit or prejudice the choice of reasonable alternatives for the federal activities (including issuance of air rights over the Grove Street ramps) were initiated upon completion of the EIE process set forth in Public Act 00-140. Federal elements of the overall Project will not be initiated until after the EIS process is completed.

The original notice of intent to issue the Draft EIS (DEIS) was published in the Federal Register on April 1, 1999 (64 FR 15778) and a notice of availability of the DEIS was published in the Federal Register on February 13, 2001 (66 FR 10034). After the publication of the DEIS, the Residential/Entertainment/Retail Component of the Recommended Alternative as defined in the DEIS was revisited. This Component, to be built in phases, was revised and currently consists of approximately 248,840 SF of retail space, including specialty shops, restaurants, cafes, nightclubs, cinemas, and other entertainment venues; 200 to 267 units of residential rental units; and 1,384-car parking garage in Phase I. The Entertainment/Retail Phase I Component is now being referred to as Meeting House Square. The amount of Entertainment/Retail space remains roughly the same as under the DEIS scenario. Likewise, the number of parking spaces associated with the parking garages is similar. The elimination of the Office Space from the DEIS scenario will revise the result of the Secondary Impact Analysis presented in the Final EIS.

The Final EIS covers the following subjects: traffic and parking impacts, land uses, socioeconomics, historic and archeological resources, air quality, noise, visual and aesthetic character, terrestrial ecology, wildlife, fisheries, water resources (including water quality, stormwater runoff, wells, and aquifers), floodplains, wetlands, water body modifications, environmental site assessment, threatened and endangered species, considerations relating to pedestrians and bicyclists, construction and engineering considerations, utilities, energy consumption, secondary and cumulative impacts. The Final EIS discusses alternatives and the proposed mitigation measures to address environmental impacts of the Project.

Questions may be directed to the individual named above under the heading For Further Information Contact.

Dated: September 23, 2002.
Donna M. Abbenante,
General Deputy Assistant Secretary for Community Planning and Development.

[FR Doc. 02-24618 Filed 9-26-02; 8:45 am]

BILLING CODE 4491-08-P